DEPARTMENT OF JUSTICE

Notice of Lodging of Consent Decree Pursuant to the Comprehensive Environmental Response, Compensation, and Liability Act (“CERCLA”)

Notice is hereby given that on December 9, 2010, a proposed Consent Decree in United States v. James Matteo & Sons, Inc. (D.N.J.) No. 1:10-cv-06405 (NLH-JS) was lodged with the United States District Court for the District of New Jersey.

In this action, the United States sought the recovery of response costs pursuant to Section 107(a) of the Comprehensive Environmental Response, Compensation, and Recovery Act, as amended (“CERCLA”), 42 U.S.C. 9607(a), from Defendant for response costs incurred at the James Matteo & Sons, Inc. Superfund Site (the “Site”), located in Gloucester County, New Jersey. Pursuant to the proposed Consent Decree, the Settling Defendant will pay to the United States $820,000 in reimbursement of past response costs incurred by the United States with respect to the Site. The proposed Consent Decree provides the Settling Defendant with a covenant not to sue pursuant to Sections 106 and 107 of CERCLA, 42 U.S.C. 9606 and 9607.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. James Matteo & Sons, Inc. (D.N.J.) No. 1:10-cv-06405 (NLH-JS); D.J. Ref. 90-11-3-09689.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $6.50 (25 cents per page reproduction cost) payable to the U.S. Treasury or, if by e-mail or fax, forward a check in that amount to the Consent Decree Library at the stated address.

Maureen Katz,
Assistant Chief, Environmental Enforcement Section, Environment and Natural Resources Division.

[FR Doc. 2010-31726 Filed 12-16-10; 8:45 am]

BILLING CODE 4410-15-P